INTERNATIONAL TRADE COMMISSION

[Investigation No. 731-TA-1330 (Review)]

Dioctyl Terephthalate From South Korea

Determination

On the basis of the record ¹ developed in the subject five-year review, the United States International Trade Commission (“Commission”) determines, pursuant to the Tariff Act of 1930 (“the Act”), that revocation of the antidumping duty order on dioctyl terephthalate from South Korea would be likely to lead to continuation or recurrence of material injury to an industry in the United States within a reasonably foreseeable time.

¹ The record is defined in § 207.2(f) of the Commission's Rules of Practice and Procedure (19 CFR 207.2(f)).

Background

The Commission instituted this review on July 1, 2022 (87 FR 39556) and determined on October 4, 2022 that it would conduct a full review (87 FR 75067, December 7, 2022). Notice of the scheduling of the Commission's review and of a public hearing to be held in connection therewith was given by posting copies of the notice in the Office of the Secretary, U.S. International Trade Commission, Washington, DC, and by publishing the notice in the Federal Register on December 22, 2022 (87 FR 78708). Since one party requested cancellation of a hearing and no other parties requested a hearing, the public hearing in connection with the review, originally scheduled for April 27, 2023, was cancelled (88 FR 26598, April 25, 2023).

The Commission made this determination pursuant to section 751(c) of the Act (19 U.S.C. 1675(c)). It completed and filed its determination in this review on June 26, 2023. The views of the Commission are contained in USITC Publication 5433 (June 2023), entitled Dioctyl Terephthalate from South Korea: Investigation No. 731-TA-1330 (Review).

By order of the Commission.
Issued: June 26, 2023.
Lisa Barton,
Secretary to the Commission.

[FR Doc. 2023-13862 Filed 6-28-23; 8:45 am]

BILLING CODE 7020-02-P